DEPARTMENT OF HOUSING AND URBAN DEVELOPMENT

[Docket No. FR-5610-N-10]

Notice of Proposed Information Collection for Public Comment; Public Housing Agency (PHA) Lease and Grievance Requirements

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

The Public Housing lease and grievance procedures are a recordkeeping requirement on the part of Public Housing agencies (PHAs) as they are required to enter into and maintain lease agreements for each individual or family that occupies a Public Housing unit. Also, both PHAs and tenants are required to follow the protocols set forth in the grievance procedures for both an informal and formal grievance hearing.

DATES: Comment Due Date: September 17, 2012.

ADDRESSES: Interested persons are invited to submit comments regarding this proposed information collection. Comments should refer to the proposal by name/or OMB Control number and should be sent to: Colette Pollard, Departmental Reports Management Officer, QDAM, Department of Housing and Urban Development, 451 7th Street SW., Room 4160, Washington, DC 20410-5000; telephone 202.402.3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza Room 2206), Washington, DC 20410; telephone 202-402-4109, (this is not a toll-free number). Persons with hearing or speech impairments may access this number via TTY by calling the Federal Information Relay Service at (800) 877-8339.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Public Housing Agency (PHA) Lease and Grievance Requirements.

OMB Approval Number: 2577-0006.

Description of the Need for the Information and Its Proposed Use: The Public Housing lease and grievance procedures are a recordkeeping requirement on the part of Public Housing agencies (PHAs) as they are required to enter into and maintain lease agreements for each individual or family that occupies a Public Housing unit. Also, both PHAs and tenants are required to follow the protocols set forth in the grievance procedures for both an informal and formal grievance hearing. The current revision was needed to correct errors in the 2009 calculation. The earlier calculation had over the amount of time needed to complete the form. The previous submission incorrectly included the number of responding PHAs in the calculation and also incorrectly assumed that 100% of households would be reviewing or initiating a lease. The correction of the errors brought the number of burden hours down from 5,671,800 to 339,822.

Agency form number, if applicable: None.

Members of Affected Public: Public housing applicants and households.

Estimation of the Total number of hours needed to prepare the information collection including number of respondents, frequency of response, and hours of response: Estimated number of respondents: 3,144. The respondents collect information for 1,181,986 households. The calculation for burden hours is as follows: Calculation for number of respondents: 1,181,986 × 1.15 (median number of new leases + changes + grievances) × 15 minutes (.25 of an hour, median time to complete) = 339,822 total hours.

Status of the Proposed Information Collection: Revision.

Authority: The Paperwork Reduction Act of 1995, 44 U.S.C. chapter 35, as amended.

Dated: July 13, 2012.
Merrie Nichols-Dixon,
Deputy Director, Office of Policy, Program and Legislative Initiatives.

[FR Doc. 2012-17496 Filed 7-17-12; 8:45 am]

BILLING CODE 4210-67-P